DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Data Collection Tool for the Decision Support Simulation Pilot Cost-Effective Study—NEW

SAMHSA's Center for Mental Health Services will conduct a pilot study to examine “cost efficiencies” in the implementation of Evidence Based Practices (EBPs). This data collection on mental health and substance abuse service utilization and functional level data will be done through the utilization of a computer simulation model developed by Human Services Research Institute.

The survey instrument will be used to collect information on services that should have been received by consumers and services that were actually received. Demographic data and functional level scores will also be collected. The data collection tool is a paper and pencil survey to be completed by case managers or other knowledgeable care givers on current mental health service users.

This data collection tool is aimed at providing information on what combination of EBPs would be most cost effective in a system of care. The goal of this project is consistent with the direction described in The President's New Freedom Commission Report on a wider adoption of EBPs.

Estimates of Annualized Hour Burden
Number of respondents | Responses per respondents | Hours per response | Total hour burden
2250 | 1 | .25 | 562.50

Send comments to Summer King, SAMHSA Reports Clearance Officer, OAS, Room 7-1045, 1 Choke Cherry Road, Rockville, MD 20857. Written comments should be received by February 28, 2005.

Dated: December 20, 2004.
Patricia S. Bransford,
Acting Executive Officer, SAMHSA.

[FR Doc. 04-28249 Filed 12-27-04; 8:45 am]

BILLING CODE 4162-20-P